DEPARTMENT OF ENERGY

Federal Energy Regulatory Commission

[Docket No. ER01-2998-000]

Pacific Gas and Electric Company; Notice of Filing

September 7, 2001.

Take notice that on August 31, 2001, Pacific Gas and Electric Company (PG&E) tendered for filing with the Federal Energy Regulatory Commission (Commission), a Notice of Termination of the 1992 Interconnection Agreement between PG&E and Northern California Power Agency (NCPA) on file with the Commission as First Revised PG&E Rate Schedule FERC No. 142 and a proposed Interconnection Agreement (IA) between PG&E and NCPA. The IA supersedes the 1992 Interconnection Agreement and is intended to provide for the continued interconnection of the PG&E and NCPA electric systems.

Copies of this filing have been served upon NCPA, the California Independent System Operator Corporation and the California Public Utilities Commission.

Any person desiring to be heard or to protest such filing should file a motion to intervene or protest with the Federal Energy Regulatory Commission, 888 First Street, NE., Washington, DC 20426, in accordance with Rules 211 and 214 of the Commission's rules of practice and procedure (18 CFR 385.211 and 385.214). All such motions and protests should be filed on or before September 21, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-23204 Filed 9-17-01; 8:45 am]

BILLING CODE 6717-01-P